DEPARTMENT OF COMMERCE

National Oceanic and Atmospheric Administration

[I.D. 040104B]

Fisheries of the Caribbean, Gulf of Mexico, and South Atlantic; Fishery Management Plan for Coastal Migratory Pelagic Resources of the Gulf of Mexico and South Atlantic; Limited Access; Scoping Meetings

AGENCY: National Marine Fisheries Service (NMFS), National Oceanic and Atmospheric Administration (NOAA), Department of Commerce.

ACTION: Notice of intent to prepare a draft supplemental environmental impact statement (DSEIS); notice of scoping meetings; and request for comments.

SUMMARY: The South Atlantic Fishery Management Council (Council) intends to prepare a DSEIS that describes and analyzes management alternatives associated with limiting access in the king mackerel fishery. The purpose of this notice is to solicit public comments on the scope of issues to be addressed in the DSEIS, which will be submitted to NMFS for filing with the Environmental Protection Agency (EPA) for publication of a Notice of Availability for public comment.

DATES: Written comments must be received by the Council by 5 p.m. on May 7, 2004 (See ADDRESSES). A series of scoping meetings will be held in April 2004. See SUPPLEMENTARY INFORMATION for specific dates, location and times.

ADDRESSES: Written comments on the scope of the DSEIS should be sent to the South Atlantic Fishery Management Council, One Southpark Circle, Suite 306, Charleston, SC 29407- 4699; telephone: 843-571-4366 or toll free 1-866-SAFMC-10; FAX 843-769-4520; email: mackerelcomments@safmc.net.

FOR FURTHER INFORMATION CONTACT: Kim Iverson, Public Information Officer; telephone: 843-571-4366 or toll free 1-866-SAFMC-10; fax: 843-769-4520; email: kim.iverson@safmc.net.

SUPPLEMENTARY INFORMATION: King mackerel in the South Atlantic are managed jointly with the Gulf of Mexico Fishery Management Council under the Fishery Management Plan for Coastal Migratory Pelagic Resources (Mackerel FMP). The Mid-Atlantic Fishery Management Council cooperates with the South Atlantic Council in developing management measures in the Atlantic. The king mackerel fishery currently operates under a moratorium on the issuance of new commercial vessel permits. The moratorium on new king mackerel permits was established by Amendment 8 to the Mackerel FMP in March 1998 (63 FR 10561; March 4, 1998) and was extended with the implementation of Amendment 12 to the Mackerel FMP (65 FR 52955; August 31, 2000). It is scheduled to expire on October 15, 2005.

The Council intends to develop a DSEIS that describes and analyzes management alternatives to limit entry in the king mackerel fishery. Those alternatives include, but are not limited to the following: (1) A “no action” alternative that would allow the moratorium to expire; (2) an extension of the current moratorium for a designated time frame; or (3) The establishment of some form of license limitation system, including individual fishing quotas. If a license limitation system is chosen, the Council may also consider alternatives for different classes of licenses, initial qualification, initial allocations by license classes, transferability, and appeals regarding eligibility. Also included in the scoping document are alternatives for possible changes to the fishing year for Atlantic group king and Spanish mackerel.

In accordance with NOAA Administrative Order 216-6, Section 5.02(c), the Council has developed this preliminary range of alternatives as a means to initiate discussion for scoping purposes only. This may not represent the full range of alternatives that eventually will be evaluated by the Council. Copies of the scoping document will be available at the meetings and are available prior to the meetings from the Council office (see ADDRESSES).

Time and Location for Scoping Meetings

Mackerel scoping will be held at the following dates and locations. All meetings are scheduled to begin at 6:00 PM.

1. Tuesday, April 20, 2004, North Carolina Aquarium on Roanoke Island, 374 Airport Road, Manteo, NC 27954; telephone: 252-473-3494;

2. Wednesday, April 21, 2004, Blockade Runner Beach Resort, 530 Causeway Drive, Wrightsville Beach, NC 28480; telephone: 910-256-0125;

3. Thursday, April 22, 2004, Holiday Inn West on the Waterway, 101 Outlet Boulevard, Myrtle Beach, SC 29579; telephone: 843-236-1000;

4. Monday, April 26, 2004, Hyatt Regency Savannah, Two West Bay Street, Savannah, GA 31401; telephone: 912-238-1234;

5. Tuesday, April 27, 2004, Holiday Inn SunSpree Resort, 1617 North First Street, Jacksonville Beach, FL 32250; telephone: 904- 249-9071;

6. Wednesday, April 28, 2004, Radisson Beach Resort, North Hutchinson Island, 2600 North A1A, Fort Pierce, FL 34949; telephone: 772-465-5544; and

7. Thursday, April 29, 2004, Holiday Inn Key Largo, 99701 Overseas Highway, Key Largo, FL 33037; telephone: 305-451-2121.

In addition, the Mid-Atlantic Council will hold a scoping meeting during its May 4-6, 2004, meeting at the Crown Plaza Meadowlands, 2 Harmon Plaza, Secaucus, NJ 07094; telephone: 202 210-7231. The Mid-Atlantic Council will include the exact time of the scoping meeting in its Federal Register notice for the Council meeting.

Special Accommodations

These meetings are physically accessible to people with disabilities. Requests for sign language interpretation or other auxiliary aids should be directed to the Council office (see ADDRESSES) by April 15, 2004.

Dated: April 6, 2004.
Alan D. Risenhoover,
Acting Director, Office of Sustainable Fisheries, National Marine Fisheries Service.

[FR Doc. 04-8116 Filed 4-8-04; 8:45 am]

BILLING CODE 3510-22-S